DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the name of one individual and four entities whose property and interests in property have been blocked pursuant to the Foreign Narcotics Kingpin Designation Act (“Kingpin Act”) (21 U.S.C. 1901-1908, 8 U.S.C. 1182).

DATES: The designation by the Director of OFAC of the one individual and four entities identified in this notice pursuant to section 805(b) of the Kingpin Act is effective on August 20, 2009.

FOR FURTHER INFORMATION CONTACT: Assistant Director, Compliance Outreach & Implementation, Office of Foreign Assets Control, Department of the Treasury, Washington, DC 20220, tel: (202) 622-2490.

SUPPLEMENTARY INFORMATION:

Electronic and Facsimile Availability

This document and additional information concerning OFAC are available on OFAC's Web site (http://www.treas.gov/ofac) or via facsimile through a 24-hour fax-on demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On August 20, 2009, OFAC designated one individual and four entities whose property and interests in property are blocked pursuant to section 805(b) of the Kingpin Act.

The list of additional designees is as follows:

Individual:

1. Melo Perilla, Jose Cayetano, c/o Carillanca Colombia Y CIA S EN CS, Bogota, Colombia; c/o Carillanca S.A., San Jose, Costa Rica; c/o Carillanca C.A., Arismendi, Nueva Esparta, Venezuela; c/o Parqueadero De La 25-13, Bogota, Colombia; DOB 07 Nov 1957; POB Ibague, Tolima, Colombia; Citizen Colombia; Cedula No. 5882964 (Colombia); Passport 5882964 (Colombia); Residency Number 003-5506420-0100028 (Costa Rica); (INDIVIDUAL) [SDNTK]

Entities:

1. Carillanca Colombia Y CIA S EN CS (f.k.a. Agropecuaria San Cayetano S EN CS); Calle 100 No. 60-04, Ofc. 504, Bogota, Colombia; NIT # 800241061-5 (Colombia); (ENTITY) [SDNTK]

2. Carillanca S.A., De la Iglesia Catolica de Parasito de Moravia, 650 metros al Este, San Jose, Costa Rica; Registration ID CJ 3101104500 (Costa Rica); (ENTITY) [SDNTK]

3. Carillanca C.A., Arismendi, Nueva Esparta, Venezuela; Registration ID 80081030 (Venezuela); (ENTITY) [SDNTK]

4. Parqueadero De La 25-13, Bogota, Colombia; Matricula Mercantil No 1362098 (Colombia); Matricula Mercantil No 1362093 (Colombia); (ENTITY) [SDNTK]

Dated: August 20, 2009.
Adam J. Szubin,
Director, Office of Foreign Assets Control.

[FR Doc. E9-20577 Filed 8-25-09; 8:45 am]

BILLING CODE 4811-45-P